DEPARTMENT OF THE INTERIOR

Office of the Secretary

[25XD4523WK\DS10100000\DWK000000.000000\DP10020BOR25000]

Statement of Findings: Navajo-Utah Water Rights Settlement

AGENCY: Office of the Secretary, Interior.

ACTION: Notice.

SUMMARY: The Secretary of the Interior (Secretary) is publishing this notice in accordance with the Navajo-Utah Water Rights Settlement Act (Settlement Act). The publication of this notice causes the settlement agreement executed in accordance with the Settlement Act to become enforceable and causes waivers and releases of claims executed pursuant to the Settlement Act to become effective.

DATES: This notice is effective September 15, 2025.

FOR FURTHER INFORMATION CONTACT: Address all comments and requests for additional information to Sarah LeFlore, Acting Director, Secretary's Indian Water Rights Office, 1849 C St. NW, Mail Stop 3045, Washington, DC 20240, (202) 208-5436, sarah_leflore@ios.doi.gov.

SUPPLEMENTARY INFORMATION: The Settlement Act, section 1102 of Public Law 116-260, was enacted to resolve certain claims to water of the Navajo Nation in the State of Utah as set forth in the Navajo Utah Water Rights Settlement Agreement (Settlement Agreement) and the Settlement Act, including all claims or defenses in and to the adjudication commonly known as the Southeastern Colorado River General Adjudication, Civ. No. 810704477 (09-1) (Utah Jud. Dist. Ct., Grand Cnty.). The Settlement Parties include the Navajo Nation, the State of Utah, and the United States.

The Settlement Act and Settlement Agreement, inter alia, recognize and protect the Navajo Nation's rights to surface and groundwater within the boundaries of the Navajo Reservation in Utah as defined by the Settlement Act and Settlement Agreement and establish a Trust Fund to be used for water development projects on the Navajo Reservation in Utah.

Statement of Findings

In accordance with section 1102(g)(1) of the Settlement Act and section 11.1 of the Settlement Agreement, I find as follows:

(1) To the extent the Settlement Agreement conflicts with the Settlement Act, the Settlement Agreement has been revised to conform with the Settlement Act;

(2) The Settlement Agreement, as amended, including waivers and releases of claims set forth in section 12 of the Settlement Agreement and section 1102(h) of the Settlement Act, has been executed by the parties, including the United States;

(3) Congress has fully appropriated, or the Secretary has provided from other authorized sources, all funds agreed to in subsections 5.4 and 5.5 of the Settlement Agreement and authorized under section 1102(f)(1) of the Settlement Act;

(4) The State has enacted any necessary legislation and provided the funding required under subsection 5.5 of the Settlement Agreement and section 1102(f)(3) of the Settlement Act; and,

(5) the court in the Southeastern Colorado River General Adjudication has entered an interlocutory decree that confirms the Navajo Nation water rights consistent with the Settlement Agreement and the Settlement Act and, with respect to the Navajo Water Rights, is final and nonappealable.

Doug Burgum,
Secretary of the Interior.

[FR Doc. 2025-17778 Filed 9-12-25; 8:45 am]

BILLING CODE 4334-63-P